DEPARTMENT OF HEALTH AND HUMAN SERVICES

Agency for Healthcare Research and Quality

Notice of Correction—Technical Review Meeting Date

The original notice was published in the Federal Register on June 10, 2004 under Volume 69, Number 112, Pages 32558-32559 (http:/a257.g.akamaitech.net/7257/2422/06jun20041800/edocket.access.gpo.gov/2004/04-13102.htm). With this Notice, the Agency for Healthcare Research and Quality (AHRQ) is informing the public that the correct meeting date for the “AHRQ State and Regional Demonstrations in Health Information Technology” is July 7 and 8, 2004.

Dated: June 23, 2004.
Carolyn M. Clancy,
Director, AHRQ.

[FR Doc. 04-14733 Filed 6-29-04; 8:45 am]

BILLING CODE 4160-90-M